DEPARTMENT OF THE INTERIOR

Bureau of Land Management

[NV-057-1630-NU]

Shooting Closure on Certain Lands Managed by the Bureau of Land Management, Las Vegas Field Office

AGENCY: Bureau of Land Management, Interior.

ACTION: Establishment of a shooting closure on selected public lands in Nye County, Nevada with request for comment.

SUMMARY: The Field Manager of the Las Vegas Field Office is proposing to close selected public lands under its administration within Nye County, Nevada, to target shooting. The proposed closure is to ensure the safety of persons and property adjacent to these selected public lands. The rapid increase in population and growth of Pahrump, Nevada has created conflicts between new residential areas and traditional public lands users accustomed to target shooting on public lands around Pahrump. There have been incidents of damage to private property and indiscriminate shooting towards residential areas by public land users. Trash accumulation from items used as targets is also affecting the condition of the public lands. This action is being taken to help ensure public safety and prevent environmental degradation. This proposed closure does not apply to hunting under the laws and regulations of the State of Nevada.

DATES: We invite the public to submit written comments concerning the proposed shooting closure by April 2, 2007.

ADDRESSES: Mail or hand deliver all comments concerning the proposed shooting closure to the Bureau of Land Management, Las Vegas Field Office, 4701 North Torrey Pines, Las Vegas, Nevada 89130; or, you may access the Federal eRulemaking Portal: http://www.regulations.gov.

FOR FURTHER INFORMATION CONTACT: The Office of the Chief Ranger of Law Enforcement, Bureau of Land Management, Las Vegas Field Office, 4701 North Torrey Pines Drive, Las Vegas, Nevada 89130, telephone number (702) 515-5000.

SUPPLEMENTARY INFORMATION:

I. Public Comment Procedures

Written comments on the proposed shooting closure should be specific, confined to issues pertinent to the proposed closure, and should explain the reason for any recommended change. Where possible, comments should reference the specific section or paragraph of the supplementary rule that the comment is addressing. The BLM need not consider or include in the Administrative Record for the final shooting closure:

a. Comments that BLM receives after the close of the comment period (see DATES) unless they are postmarked or electronically dated before the deadline, or;

b. Comments delivered to an address other than those listed above (see ADDRESSES).

You may also access and comment on the proposed shooting closure at the Federal eRulemaking Portal by following the instructions at that site (see ADDRESSES).

Comments, including names, street addresses and other contact information of respondents, will be available for public review at the Las Vegas Field Office, 4701 N. Torrey Pines, Las Vegas, Nevada 89130, during regular business hours (7:30 a.m. to 4:30 p.m.), Monday through Friday, except Federal holidays. Before including your address, phone number, e-mail address, or other personal identifying information in your comment, you should be aware that your entire comment—including your personal identifying information—may be made available at any time. While you can ask us in your comments to withhold your personal information from public review, we cannot guarantee that we will be able to do so.

II. Background

The BLM plans to establish a shooting closure under the authority of 43 CFR 8364.1, which allows BLM Field Managers to establish closures for the protection of persons, property, and public lands and resources.

This provision allows the BLM to issue closures of less than national effect without codifying the rules in the Code of Federal Regulations.

III. Procedural Matters

Executive Order 12866, Regulatory Planning and Review

This proposed shooting closure is not a significant regulatory action and is not subject to review by the Office of Management and Budget under Executive Order 12866. This proposed shooting closure will not have an annual effect of $100 million or more on the economy. It is not intended to affect commercial activity, but contain rules of conduct for public use of certain public lands. It will not adversely affect, in a material way, the economy, productivity, competition, jobs, the environment, public health or safety, or state, local, or Tribal governments or communities. This proposed shooting closure will not create a serious inconsistency or otherwise interfere with an action taken or planned by another agency. This proposed shooting closure does not materially alter the budgetary effects of entitlements, grants, user fees, or loan programs or the right or obligations of their recipients; nor does it raise novel legal or policy issues. It merely imposes certain rules on recreational use on a limited portion of public lands in Southern Nevada in order to protect human health, and safety.

Clarity of the Proposed Shooting Closure

Executive Order 12866 requires each agency to write regulations that are simple and easy to understand. We invite your comments on how to make this proposed shooting closure easier to understand, including answers to questions such as the following:

a. Are the requirements in the proposed shooting closure clearly stated?

b. Does the proposed shooting closure contain technical language or jargon that interferes with its clarity?

c. Does the format of the proposed shooting closure (grouping and order of sections, use of headings, paragraphing, etc.) aid or reduce their clarity?

d. Would the proposed shooting closure rules be easier to understand if they were divided into more (but shorter) sections?

e. Is the description of the proposed shooting closure in the SUPPLEMENTARY INFORMATION section of this preamble helpful in understanding the proposed shooting closure? How could this description be more helpful in making the proposed shooting closure easier to understand?

Please send any comments you have on the clarity of the proposed shooting closure to the address specified in the ADRESSES section.

National Environmental Policy Act

This proposed shooting closure itself does not constitute a major Federal action significantly affecting the quality of the human environment under section 102(2)(C) of the National Environmental Policy Act of 1969, 42 U.S.C. 4332(2)(C).

Regulatory Flexibility Act

Congress enacted the Regulatory Flexibility Act (RFA), 5 U.S.C. 601-612, to ensure that Government regulations do not unnecessarily or disproportionately burden small entities. The RFA required a regulatory flexibility analysis if a rule would have a significant economic impact, either detrimental or beneficial on a substantial number of small entities. The proposed shooting closure does not pertain specifically to commercial or governmental entities of any size, but to public recreational use of specific lands. Therefore, the BLM has determined under the RFA that these interim supplementary rules would not have a significant economic impact on a substantial number of small entities.

Small Business Regulatory Enforcement Fairness Act (SBREFA)

This proposed shooting closure does not constitute a “major rule” as defined by U.S.C. 804(2). The proposed shooting closure merely contains rules of conduct for recreational use of certain public lands. The proposed shooting closure has no effect on business, commercial, or industrial use of the public lands.

Unfunded Mandates Reform Act

The proposed shooting closure does not impose an unfunded mandate on state, local, or Tribal governments in the aggregate, or the private sector, of more than $100 million per year; nor does it have a significant or unique effect on small governments. The propsed shooting closure does not require anything of state, local, or Tribal governments. Therefore, the BLM is not required to prepare a statement containing the information required by the Unfunded Mandates Reform Act (2 U.S.C. 1532 et seq.).

Executive Order 12630, Governmental Actions and Interference With Constitutionally Protected Property Rights (Takings)

The proposed shooting closure is not a government action capable of interfering with constitutionally protected property rights. The proposed shooting closure does not address property rights in any form, and does not cause the impairment of anybody's property rights. Therefore, the Department of the Interior has determined that this proposed shooting closure would not cause a taking of private property or require further discussion of takings implications under this Executive Order.

Executive Order 13132 Federalism

The proposed shooting closure will not have a substantial direct effect on the states, on the relationship between the national government and the states, or on the distribution of power and responsibilities among the various levels of government. The proposed shooting closure affects land in only one state, Nevada. Therefore, the BLM has determined that the proposed shooting closure does not have sufficient Federalism implications to warrant preparation of a Federalism Assessment.

Executive Order 12988, Civil Justice Reform

Under Executive Order 12988, the Office of the Solicitor has determined that the proposed shooting closure will not unduly burden the judicial system and that the requirements of sections 3(a) and 3(b)(2) of the Order are met. The proposed shooting closure includes rules of conduct and prohibited acts, but they are straightforward and not confusing, and their enforcement should not unreasonably burden the United States Magistrate who will try any persons cited for violating them.

Executive Order 13175, Consultation and Coordination With Indian Tribal Governments

In accordance with Executive Order 13175, the BLM has found that this proposed shooting closure does not include policies that have Tribal implications. The proposed shooting closure does not affect lands held for the benefit of Indians, Aleuts or Eskimos.

Paperwork Reduction Action

The proposed shooting closure does not contain information collection requirements that the Office of Management and Budget must approve under the Paperwork Reduction Act, 44 U.S.C. 3501 et seq. rules requiring special recreation permits for certain recreational users will involve collection of information contained on BLM Special Recreation Permit form 2930-1. This permit form has been approved under OMB Number 10004-0119.

Author

The principal author of these interim supplementary rules is Erika Schumacher, Chief Ranger, Las Vegas Field Office, Bureau of Land Management.

Closure Area

Public lands affected are within the following described area: Township 21 Range 53 Sections 14, 15, 22, 23, 24, 25, 26, 27, 34, 35, 36; Township 21 Range 54 Sections 21, 22, 27, 28, 29, 30 and 31, 32, 33, 34, Township 22 Range 53 Sections 1, 2 and 12; Township 22 Range 54 Sections 5, 6 and 7, Mount Diablo Meridian, Nevada.

Maps Depicting the area affected by this closure order are available for public inspection at the Las Vegas Field Office, Bureau of Land Management, 4701 N. Torrey Pines Drive, Las Vegas, Nevada.

Exceptions to Closure

a. Hunting with a valid state hunting license and in accordance with State laws, and

b. Law Enforcement personnel in the performance of their duties.

Closure Restrictions

Unless otherwise authorized, within the closure area no person shall:

a. Discharge any firearm.

b. Possess an unregistered firearm, when registration of a firearm is required by the State of Nevada or Nye County.

c. Possess an illegally obtained firearm.

d. Possess any firearm in violation of Federal, state or county regulations.

e. Unless specifically addressed by regulations set forth in 43 CFR, the laws and regulations of the State of Nevada and Nye County shall govern the use and possession of firearms. Such state and county laws and regulations, which are now or may later be in effect are hereby adopted and made part of this closure.

Definitions

Firearm: Any weapon capable of firing a projectile including but not limited to rifle, shotgun, handgun, BB-gun, pellet gun, etc.

This closure is issued under the authority of 43 CFR 8364.1. Violations of any terms, conditions, or restrictions contained in this closure order, may subject the violator to citation or arrest, with penalty of fine and imprisonment or both as specified by law.

Juan Palma,
Field Manager, Las Vegas Field Office.

[FR Doc. E7-3642 Filed 3-1-07; 8:45 am]

BILLING CODE 4310-40-P